DEPARTMENT OF HEALTH AND HUMAN SERVICES

National Institutes of Health

National Institute of Neurological Disorders and Stroke; Amended Notice of Meeting

Notice is hereby given of a change in the meeting of the National Institute of Neurological Disorders and Stroke Special Emphasis Panel, April, 10, 2002, 11:30 a.m. to April 10, 2002, 1:30 p.m., 6001 Executive Blvd., Bethesda, MD, 20892 which was published in the Federal Register on March 27, 2002 (67 FR 14722), FR Doc. 02-7271.

The meeting will be held on April 22, 2002 from 10 a.m. to 12 p.m. The meeting is closed to the public.

Dated: April 12, 2002.
LaVerne Y. Stringfield,
Director, Office of Federal Advisory Committee Policy.

[FR Doc. 02-9429 Filed 4-17-02; 8:45 am]

BILLING CODE 4140-01-M